DEPARTMENT OF ENERGY

Federal Energy Regulatory Commission

[Docket Nos. RP00-107-005]

Williston Basin Interstate Pipeline Company; Notice of Compliance Filing

June 17, 2004.

Take notice that on June 14, 2004, Williston Basin Interstate Pipeline Company (Williston Basin) tendered for filing as part of its FERC Gas Tariff, Second Revised Volume No. 1, the tariff sheets listed in Appendix A to the filing.

Williston Basin states that Volume I of the filing contains revised tariff sheets reflecting Williston Basin's refund rates, which are proposed to be effective beginning June 1, 2000. Williston Basin further states that it is also filing a Volume II, with pro forma tariff sheets effective on a prospective basis. Williston Basin further states that these rates are proposed to become effective at the appropriate time, upon Commission approval.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1400 Filed 6-23-04; 8:45 am]

BILLING CODE 6717-01-P